DEPARTMENT OF COMMERCE

Foreign-Trade Zones Board

Foreign-Trade Zone 147—Berks County, PA; Site Renumbering Notice

Foreign-Trade Zone 147 was approved by the Foreign-Trade Zones Board on June 28, 1988 (Board Order 378), and expanded on February 25, 1997 (Board Order 871), on November 3, 2005 (Board Order 1417), and on May 29, 2009 (Board Order 1615).

FTZ 147 currently consists of 15 “sites” totaling 3,007 acres in the Reading area. The current update does not alter the physical boundaries that have previously been approved, but instead involves an administrative renumbering that separates certain non-contiguous sites for record-keeping purposes.

Under this revision, the site list for FTZ 147 will be as follows: Site 1 (865 acres)—Reading Municipal Airport complex; Site 2 (7 acres)—Second Street and Grand Street, Hamburg; Site 3 (161 acres)—Excelsior Industrial Park, Maiden Creek Township; Site 4 (279 acres)—within the International Trade District of York; Site 5 (42 acres)—Penn Township Industrial Park; Site 6 (27 acres)—Hanover Terminal, Center Street at CSX Railroad, Hanover; Site 7 (155 acres)—Greenspring Industrial Park, 305 Green Springs Road, York County; Site 8 (153 acres)—Fairview Business Park, Lewisberry; Site 9 (185 acres)—Chambersburg Industrial Park; Site 10 (1214)—Cumberland Valley Business Park, Franklin County; Site 11 (310 acres)—ProLogis Park 81, Interstate 81 and Walnut Bottom Road, Cumberland County; Site 12 (242 acres)—LogistiCenter, Allen Road Extension and Distribution Drive, Carlisle; Site 13 (100 acres)—Capital Business Center, Dauphin County; Site 14 (164 acres)—Conewago Industrial Park, 1100 Zeager Road, Elizabethtown; Site 15 (214 acres)—600 & 601 Memory Lane, York; Site 16 (9 acres)—789 Kings Mill Road, York; and Site 17 (24 acres)—401 Moulstown Road, Penn Township.

FOR FURTHER INFORMATION CONTACT: Maureen Hinman at maureen.hinman@trade.gov or (202) 482-0627.

Pierre V. Duy,
Acting Executive Secretary.

[FR Doc. 2011-139 Filed 1-6-11; 8:45 am]

BILLING CODE 3510-DS-P